NUCLEAR REGULATORY COMMISSION

[NRC-2016-0276]

Category 3 Source Security and Accountability; Correction

AGENCY: Nuclear Regulatory Commission.

ACTION: Source protection; public meetings and request for comment; correction.

SUMMARY: The U.S. Nuclear Regulatory Commission (NRC) is correcting a notice that was published in the Federal Register (FR) on January 9, 2017, regarding Category 3 source security and accountability. This action is necessary to delete erroneous text in the paragraph under the heading “IV. Public Comments Process.”

DATES: The correction is effective January 17, 2017.

ADDRESSES: Please refer to Docket ID NRC-2016-0276 when contacting the NRC about the availability of information regarding this document. You may obtain publicly-available information related to this document using any of the following methods:

• Federal Rulemaking Web site: Go to http://www.regulations.gov and search for Docket ID NRC-2016-0276. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Irene Wu, Office of Nuclear Material Safety and Safeguards, U.S. Nuclear Regulatory Commission, Washington, DC 20555-0001; telephone: 301-415-1951; email: Irene.Wu@nrc.gov.

SUPPLEMENTARY INFORMATION: In the FR on January 9, 2017, in FR Doc. 2017-00169, on page 2402, in the first column, the second sentence under the heading “IV. Public Comments Process,” is corrected to read as follows: “Responses to this solicitation will inform staff consideration of the regulatory impacts for any recommendations related to Category 3 source security and accountability, which will be documented in a paper to be provided to the Commission in August 2017.”

Dated at Rockville, Maryland, this 11th day of January 2017.
For the Nuclear Regulatory Commission.
Douglas Bollock,
Acting Deputy Director, Division of Material Safety, State, Tribal and Rulemaking Programs, Office of Nuclear Material Safety and Safeguards.

[FR Doc. 2017-00822 Filed 1-13-17; 8:45 am]

BILLING CODE 7590-01-P